DEPARTMENT OF THE TREASURY

Alcohol and Tobacco Tax and Trade Bureau

27 CFR Part 9

[T.D. TTB-59; Re: Notice No. 60]

RIN 1513-AB22

Establishment of the Snake River Valley Viticultural Area (2005R-463P)

AGENCY: Alcohol and Tobacco Tax and Trade Bureau, Treasury.

ACTION: Final rule; Treasury decision.

SUMMARY: This Treasury decision establishes the 8,263-square mile “Snake River Valley” viticultural area in southwestern Idaho and southeastern Oregon. We designate viticultural areas to allow vintners to better describe the origin of their wines and to allow consumers to better identify wines they may purchase.

EFFECTIVE DATE: April 9, 2007.

FOR FURTHER INFORMATION CONTACT: N.A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features found on United States Geological Survey (USGS) maps; and

• A copy of the appropriate USGS map(s) with the proposed viticultural area's boundary prominently marked.

Snake River Valley Viticultural Area

Background

The wine grape growers of the Snake River Valley in Idaho, the Idaho Grape Growers and Wine Producers Commission, and the Idaho Department of Commerce and Labor, collectively referred to as the “petitioner,” submitted a petition to establish the 8,263-square mile Snake River Valley viticultural area. The proposed viticultural area includes Ada, Adams, Boise, Canyon, Elmore, Gem, Gooding, Jerome, Owyhee, Payette, Twin Falls, and Washington Counties in southwestern Idaho and Baker and Malheur Counties in southeastern Oregon. The proposed boundary encompasses 15 wineries, 46 vineyards, and 1,107 acres of commercial vineyard production. We summarize below the supporting evidence presented with the petition.

Name Evidence

The petitioner provided multiple sources of “Snake River Valley” name evidence for the proposed viticultural area. References include winemaking and vineyards, agriculture, early regional exploration, and other name uses.

The Fall 2001 edition of Wine Press Northwest ran an article titled “Idaho Wineries at a Glance,” which states, “At first glance, the Snake River Valley seems an idyllic place to grow grapes * * *” and continues to explain that most of the grapes are grown in the Snake River Valley area west of Boise, Idaho. The February 17, 2005, edition of Wine Press Northwest ran an article describing the Snake River Valley as a beautiful area in southwestern Idaho. The article noted that most of the Idaho wineries and vineyards are at elevations between 1,500 and 2,500 feet in the western portion of the Snake River Valley.

The official Web site of the State of Idaho has a link to the history of Idaho, noting that in 1811 the Pacific Fur Company expedition explored the Snake River Valley and discovered the Boise Valley, which is within the boundary of the proposed viticultural area. An undated Sunset Magazine article, “The Snake River Valley of Idaho-Eastern Oregon,” discusses the significant agricultural production in the Snake River Valley of Idaho and eastern Oregon.

The USGS maps used to identify the proposed Snake River Valley viticultural area prominently show the Snake River at the low elevations of the proposed viticultural area. The American Automobile Association Western States/Provinces map, dated February 2003 through May 2005, shows the Snake River flowing from its headwaters in Wyoming, through Idaho and Oregon, and into Washington to where it joins the Columbia River near Pasco and Kennewick.

Boundary Evidence

The proposed Snake River Valley viticultural area covers portions of southwestern Idaho and southeastern Oregon. The basis for the proposed boundaries, the petitioner explains, is the extent of ancient Lake Idaho, a deep lake that filled the western part of the Snake River Valley approximately 4 million years ago. The proposed boundary line, with a maximum elevation of 1,040 meters, or 3,412 feet, surrounds the now dry, ancient Lake Idaho at the highest elevation conducive to viticulture, according to the petitioner.

The Snake River Plain, a crescent-shaped belt of lava and sediment ranging from 40 to 62 miles wide, extends about 372 miles in length across southern Idaho, according to the petitioner. The geology of the western portion of the Snake River Plain, the petitioner continues, has lower elevations and a rift-bounded basin, which contrast to the higher elevations of the eastern section of the Snake River Plain. Also, according to the petitioner, the colder and drier climate of the eastern area is not conducive to successful viticulture, unlike the warmer weather and lower elevations of ancient Lake Idaho.

An April 21, 1997, article, “Hydrogeologic Framework of the Boise Valley of Southwest Idaho,” by Spencer H. Wood, Department of Geosciences, Boise State University, describes the Snake River Plain as a great geologic bathtub with layers of mud sediment and interconnected layers of sand. According to the article, the depth of the basin plain averages 3,500 feet but extends to 6,000 feet. Also, in prehistoric times ancient Lake Idaho was 800 feet deep in places and covered 5,000 square miles. Today, this region is a flat, semiarid plain that is irrigated for agriculture with water from the Boise River and with ground water, according to the article.

Distinguishing Features

The proposed Snake River Valley viticultural area includes a series of distinguishing features. According to the petitioner its topography includes elevations lower than the surrounding areas and a fault-bounded, rift basin geography. Also, the area is primarily underlain by sedimentary rock. The comparatively warm climate of the proposed Snake River Valley viticultural area creates better grape-growing conditions than those in the surrounding higher elevations and the Snake River Valley in eastern Idaho.

Geology

The petitioner states that the geologic history of the proposed Snake River Valley viticultural area includes flood basalts, northwest-trending structures, loess mantles, and outburst floods. The ancient Lake Idaho extends 149 miles northwest to southeast as a system of lakes and flood plains, from the Oregon-Idaho State line to west of Twin Falls, Idaho.

North of the proposed Snake River Valley viticultural area boundary line, the petitioner explains, are Cretaceous granites of the Idaho Batholith, Eocene volcanoes, older sedimentary rocks, and volcanic flows. To the south of the proposed boundary line, volcanic rocks overlie the southern extension of the granite basement.

Regional Summary

The petitioner includes a map of the Snake River Plain Aquifer System and information modified from the “Ground Water Atlas of the United States: Idaho, Oregon, Washington, U.S. Geological Survey Hydrologic Atlas HA 730-H, 1994.” The map shows that the Western Plain, which is within the proposed Snake River Valley viticultural area, is underlain by aquifers in basaltic rock but mainly in unconsolidated (sedimentary) deposits. In contrast, the Eastern Plain, to the east of the proposed Snake River Valley viticultural area, is underlain predominantly by aquifers in Pliocene and younger basaltic rocks.

The petitioner includes a second map that documents the distribution of rock types in the Pacific Northwest States, based on information taken from the same USGS Hydrologic Atlas noted above. The proposed Snake River Valley viticultural area, according to the map, is underlain primarily by sedimentary rocks, distinguishing the area from basaltic and other igneous rocks in the surrounding regions.

Geography

Physical Features: The petitioner describes the ancient Lake Idaho as the physical focus and an important distinguishing feature of the proposed Snake River Valley viticultural area. Historically, the ancient Lake Idaho was a trough-like structure of lakes. The proposed Snake River Valley viticultural area boundary encircles the now dry, ancient Lake Idaho, a low elevation, fault-bounded, rift basin with a relatively flat, sedimentary bottom. The surrounding areas, beyond the proposed boundary, have a mountainous topography with generally higher elevations.

Elevation: Low elevation, between 660 and 1,040 meters, or 2,165 and 3,412 feet, when compared to the surrounding mountains and the eastern portion of the Snake River Valley, is a significant distinguishing feature of the proposed Snake River Valley viticultural area, as shown on the USGS maps and described by the petitioner. Oxbow Dam, along the Snake River in Adams County, Idaho, lies at an elevation of 660 meters, or 2,165 feet, but the encircling proposed viticultural area boundary line generally adheres to an elevation of 1,040 meters, or 3,412 feet, according to the boundary outlined in the petition. The proposed boundary line deviates from its prescribed 1,040-meter elevation twice at the northernmost boundary on the McCall map and again along the western boundary of the Vale map. The petitioner explains that the 1,040-meter contour line, past the boundaries of the McCall and Vale maps, continues into regions not associated with the Snake River Valley or with viticulture. The region's viticulture, according to the petitioner, is successful between elevations of 664 and 950 meters, or 2,180 and 3,117 feet.

Mountains surrounding the western Snake River Valley region exceed 7,000 feet in elevation, especially to the east of the proposed viticultural area boundary line in the Boise National Forest, as shown on the Idaho City, Idaho, USGS map. The City of Twin Falls, Idaho, about 2½ miles southeast of the proposed Snake River Valley viticultural area's eastern boundary line, as shown on the USGS Twin Falls, Idaho, map, lies at an elevation of 3,729 feet, or about 320 feet higher than the elevation of the proposed viticultural area boundary line.

The petitioner provides three topographic profiles of the proposed Snake River Valley viticultural area drawn from various points of the compass. The three profiles include (1) California Mountain, Oregon, to Bruneau, Idaho, (2) Oreana, Idaho, to Danskin Peak, Idaho, and (3) Marsing, Idaho, to Emmett, Idaho. The profiles show the lower elevations of the ancient Lake Idaho basin in comparison to the surrounding higher mountain elevations beyond the proposed viticultural area boundary line. Payette, Idaho, is at an elevation of about 2,300 feet in the basin, but California Mountain, Oregon, reaches a height of approximately 5,150 feet, significantly higher than the proposed viticultural area boundary line.

Soils

The petitioner describes the soils of the proposed Snake River Valley viticultural area as being diverse and not a distinguishing feature, because the soils have developed in various parent materials, during various time frames, and under varying climatic conditions. The soils are broadly classified as Aridisols, the petitioner adds, and no single soil series or association is dominant.

Vineyards within the proposed Snake River Valley viticultural area are on soils that have underlying parent material derived from weathered sediment from the ancient Lake Idaho, according to the petitioner. At the surface are loess, sand, and, in slack water areas, flood-deposited silt. Typically, vineyards in the proposed area are on very shallow soils on slopes.

Climate

The distinguishing climatic features of the proposed Snake River Valley viticultural area, the petitioner states, include precipitation, air temperature, heat-unit accumulation, and growing season length. The factors affecting climate, the petitioner continues, include the region's topography, a basin depression with surrounding mountainous terrain; the continental inland location approximately 310 miles east of the Cascade Range; and the 43 degree north latitude line. The petitioner adds that the proposed Snake River Valley viticultural area is in a climatic transition zone with both continental and maritime regimes. The combination of elevation and latitude of the proposed Snake River Valley viticultural area, the petitioner continues, creates a shorter grape-growing season than those in many other viticultural regions in the Western United States.

Climatic data from four weather stations in the West Snake River Valley (WSRV) and for other grape-growing districts in the Western United States are noted in the climatic data table below.

The petitioner used online data from 1971 to 2000 compiled and archived by the National Climatic Data Center (NCDC), National Oceanic and Atmospheric Administration, for four areas within the proposed Snake River Valley viticultural area and for three viticultural regions outside of Idaho. The petitioner averaged the collected data for the four Idaho weather stations listed in the climatic data table below. The data are listed separately in the table for each station outside of Idaho, including Umpqua Valley, Oregon; Walla Walla Valley, Washington; and Napa Valley, California, all of which are in established American viticultural areas.

Elevation, Location, and Climatic Data for Four Weather Stations Within Idaho and for Three Weather Stations in Western States, Outside of Idaho
[In the column headings, Elev. (m) means elevation in meters; MAT, mean annual temperature in degrees Celsius; MAP, mean annual precipitation in millimeters; GDD, growing (Celsius) degree-days; GSL, growing season length in days; XMT, 30-year extreme minimum temperature in degrees Celsius (with event year); and CNT, degrees of continental influence (mean annual temperature range that increases as the coastal marine influence decreases, in degrees Celsius).]
Weather stations in the proposed Snake River Valley viticultural area | Elev. (m) | Location (lat./long.) | MAT (°C) | MAP (mm) | GDD | GSL | XMT (°C) | CNT (°C)
Parma Experiment Station, ID | 677 | 43°48′ N./116°57′ W | 9.9 | 283 | 1,342 | 140 | −32 (1990) | 25
Weiser, ID | 722 | 44°15′ N./116°58′ W | 11.0 | 307 | 1,637 | 136 | −34 (1990) | 27
Deer Flat Dam, ID | 765 | 43°35′ N./116°45′ W | 11.6 | 258 | 1,626 | 165 | −30 (1989) | 24
Glenns Ferry, ID | 753 | 42°56′ N./115°19′ W | 10.5 | 248 | 1,413 | 125 | −32 (1989) | 24
Averages of above four Idaho stations in WSRV | 729 | N/A | 10.8 | 274 | 1,504 | 142 | N/A | 25
Other Western Viticultural Areas (Reporting Station)
Umpqua Valley (Roseburg, OR) | 128 | 43°2′ N./123°36′ W | 13.0 | 855 | 1,484 | 218 | 3 (1989) | 15
Walla Walla Valley (Walla Walla, WA) | 357 | 46°5′ N./118°28′ N | 12.3 | 530 | 1,715 | 206 | −11 (1985) | 23
Napa Valley (Napa, CA) | 18 | 38°28′ N./122°27′ W | 15.0 | 672 | 1,753 | 259 | 14 (1990) | 11

Precipitation: The proposed Snake River Valley viticultural area is a semiarid desert with minimal summer precipitation, the petitioner explains. The proposed viticultural area has a mean annual precipitation of 10 to 12 inches, occurring mostly in winter. The low precipitation rate combines with warm weather during the growing season, and the vineyards therefore need irrigation.

According to the petitioner, the Idaho weather stations within the proposed Snake River Valley viticultural area record about half the annual precipitation of the weather stations at Umpqua Valley, Oregon; Walla Walla Valley, Washington; and Napa Valley, California. The petitioner explains that the lower annual precipitation of the proposed Snake River Valley viticultural area may be partially due to the rain shadows of the Cascade, Sierra Nevada, and Owyhee Ranges.

Temperature: The proposed Snake River Valley viticultural area's mean annual temperature, based on an average of the four Idaho stations monitored, is 51 degrees F, or 10.8 degrees C. The midwinter mean temperatures are below 0 degrees C for several months, and potential vineyard damage is a hazard, the petitioner explains. The California, Oregon, and Washington weather stations listed in the climatic data table above record warmer average winter temperatures. The differences in the extreme winter temperatures and the mean annual temperature ranges between the proposed Snake River Valley viticultural area and the three weather stations monitored in California, Oregon, and Washington show significant variations in viticultural growing conditions.

The petitioner explains that the difference in winter temperatures between the colder proposed Snake River Valley viticultural area and the stations at Umpqua Valley, Oregon; Walla Walla Valley, Washington; and Napa Valley, California, results, to a great extent, from the higher elevations in the proposed viticultural area, which are between 660 and 1,040 meters, or 2,165 and 3,412 feet. Elevations of the other stations are Umpqua Valley, about 460 feet; Walla Walla Valley, 1,200 feet; and Napa Valley, 40 feet.

Also, distances from the Pacific Ocean affect the amount of moderating, marine air temperatures the seven weather stations receive. Oceans tend to moderate air temperatures over land; hence, a wider annual temperature range indicates a greater degree of continental influence, or distance from an ocean. The proposed Snake River Valley viticultural area and the Walla Walla Valley both have, as a measure of continental influence, mean annual temperature ranges of about 25 degrees C. In comparison, the Umpqua Valley and the Napa Valley, both of which are closer to the Pacific Ocean and are at low elevations, have a smaller mean annual temperature range—about 15 degrees C.

The temperatures of the proposed Snake River Valley viticultural area, according to the petitioner, rise rapidly during the growing season, from June through August. The Umpqua Valley in Oregon and the proposed Snake River Valley viticultural area have similar, annual, total growing degree-days, as shown in the climatic data table above; but, they have between 200 and 250 fewer heat units than the Walla Walla Valley, Washington, and the Napa Valley, California. Each degree that a day's mean temperature is above 50 degrees F, which is the minimum temperature required for grapevine growth, is counted as 1 degree-day (see “General Viticulture,” Albert J. Winkler, University of California Press, 1975).

The length of the proposed Snake River Valley viticultural area's growing season correlates to the frost-free period from about May 10 to September 29 annually, according to the petitioner. The total measurement of annual viticultural growth is between 64 and 117 days less than that measured at Walla Walla Valley, Washington; Umpqua Valley, Oregon; and Napa Valley, California.

Notice of Proposed Rulemaking and Comments Received

TTB published Notice No. 60 regarding the proposed Snake River Valley viticultural area in the Federal Register on July 17, 2006 (71 FR 40458). In that notice, TTB invited comments by September 15, 2006, from all interested persons. We expressed particular interest in receiving comments on whether the proposed area name would result in a conflict with currently used brand names. We also solicited comments on the appropriateness of the proposed eastern boundary line and asked whether the boundary should be extended into southeastern Idaho. Finally, we specifically solicited comments on the appropriateness of the name “Snake River Valley” and asked whether “West Snake River Valley” or another alternative name would be more appropriate for this area. We received three comments in response to that notice. All three comments supported the establishment of the Snake River Valley viticultural area as proposed.

TTB Finding

After careful review of the petition and the comments received, TTB finds that the evidence submitted supports the establishment of the proposed viticultural area. Therefore, under the authority of the Federal Alcohol Administration Act and part 4 of our regulations, we establish the “Snake River Valley” viticultural area in southwestern Idaho and southeastern Oregon, effective 30 days from the publication date of this document.

Boundary Description

See the narrative boundary description of the viticultural area in the regulatory text published at the end of this document.

Maps

The maps for determining the boundary of the viticultural area are listed below in the regulatory text.

Impact on Current Wine Labels

Part 4 of the TTB regulations prohibits any label reference on a wine that indicates or implies an origin other than the wine's true place of origin. With the establishment of this viticultural area and its inclusion in part 9 of the TTB regulations, its name, “Snake River Valley,” is recognized under 27 CFR 4.39(i)(3) as a name of viticultural significance. The text of the new regulation clarifies this point. Consequently, wine bottlers using “Snake River Valley” in a brand name, including a trademark, or in another label reference as to the origin of the wine, must ensure that the product is eligible to use the viticultural area's name as an appellation of origin. No single part of the “Snake River Valley” viticultural area name standing alone, such as “snake” or “Snake River”, has viticultural significance. The word “snake” alone is not routinely identified with the “Snake River Valley.” The name “Snake River” applies to 13 streams in 9 States, spanning from Florida to Alaska, according to the USGS Geographic Names Information System.

For a wine to be labeled with a viticultural area name or with a brand name that includes a viticultural area name or other term specified as having viticultural significance in part 9 of the TTB regulations, at least 85 percent of the wine must be derived from grapes grown within the area represented by that name or other term, and the wine must meet the other conditions listed in 27 CFR 4.25(e)(3). If the wine is not eligible to use the viticultural area name or other term of viticultural significance as an appellation of origin and that name or other term appears in the brand name, then the label is not in compliance and the bottler must change the brand name and obtain approval of a new label. Similarly, if the viticultural area name or other term of viticultural significance appears in another reference on the label in a misleading manner, the bottler would have to obtain approval of a new label.

Different rules apply if a wine has a brand name containing a viticultural area name or other term of viticultural significance that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866, 58 FR 51735. Therefore, it requires no regulatory assessment.

Drafting Information

N.A. Sutton of the Regulations and Rulings Division drafted this notice.

List of Subjects in 27 CFR Part 9

Wine.

The Regulatory Amendment

For the reasons discussed in the preamble, we amend title 27 CFR, chapter 1, part 9, as follows:

PART 9—AMERICAN VITICULTURAL AREAS

1. The authority citation for part 9 continues to read as follows:

Authority: 27 U.S.C. 205.

2. Amend subpart C by adding § 9.208 to read as follows:

Subpart C—Approved American Viticultural Areas

§ 9.208 Snake River Valley.

(a) Name. The name of the viticultural area described in this section is “Snake River Valley”. For purposes of part 4 of this chapter, “Snake River Valley” is a term of viticultural significance.

(b) Approved maps. The appropriate maps for determining the boundary of the Snake River Valley viticultural area are 14 United States Geological Survey 1:100,000 scale, metric topographic maps. They are titled,

(1) Baker, Oregon-Idaho, 1981;

(2) Brogan, Oregon-Idaho, 1980;

(3) McCall, Idaho-Oregon, 1980, Photoinspected 1990;

(4) Weiser, Idaho-Oregon, 1980, Photoinspected 1990;

(5) Boise, Idaho-Oregon, 1981;

(6) Idaho City, Idaho, 1982;

(7) Murphy, Idaho, 1986;

(8) Mountain Home, Idaho, 1990;

(9) Fairfield, Idaho, 1978;

(10) Twin Falls, Idaho, 1979;

(11) Glenns Ferry, Idaho, 1992;

(12) Triangle, Idaho, 1990;

(13) Mahogany Mountain, Idaho, 1978; and

(14) Vale, Oregon-Idaho, 1993.

(c) Boundary. The Snake River Valley viticultural area is located in Ada, Adams, Boise, Canyon, Elmore, Gem, Gooding, Jerome, Owyhee, Payette, Twin Falls, and Washington Counties in southwestern Idaho and in Baker and Malheur Counties in southeastern Oregon. The boundary of the Snake River Valley viticultural area is as described below:

(1) The beginning point is on the Baker map in Oregon at the intersection of the 1,040-meter contour line and Interstate 84, between Pleasant Valley and Oxman in Baker County, T10S/R42E;

(2) From the beginning point proceed east following the 1,040-meter contour line along the eastern side of the Burnt River Valley, then crossing over to the Brogan map, proceed northerly along the western side of the Snake River Valley and, crossing back over to the Baker map, proceed westerly along the southern side of the Powder River Valley to the 1,040-meter contour line's intersection with the northern boundary of Baker County, T7S/R40E, on the Baker map;

(3) Proceed 7.5 miles straight east along the northern boundary of Baker County to its intersection with the 1,040-meter line east of Oregon State Road 203 and three unnamed creeks, T7S/R41E, on the Baker map;

(4) Proceed generally southeast along the 1,040-meter contour line onto the McCall map, to its intersection with the 45 degree north latitude line, to the immediate west of North Creek in the Hell's Canyon National Recreation Area, T6S/R47E, on the northern border of the McCall map;

(5) Proceed straight east along the 45 degree north latitude line to its intersection with the 1,040-meter contour line, to the immediate east of North Creek, T6S/R47E, on the McCall map;

(6) Follow the 1,040-meter contour line, which encircles the northern portion of McLain Gulch, to its third intersection with the 45 degree north latitude line, west of the Snake River in Baker County, Oregon, T6S/R48E, on the McCall map;

(7) Proceed straight east along the 45 degree north latitude line to its intersection with the 1,040-meter contour line, to east of the Snake River and Indian Creek in Adams County, Idaho, T6S/R48W, on the McCall map;

(8) Continue following the 1,040-meter contour line in a generally clockwise rotation on the McCall map, proceeding southerly on the southeast side of the Snake River, northeasterly north of the Crooked River, crossing the Crooked River, T7S/R3W, proceeding southwesterly south of the Crooked River, crossing Brownlee Creek, T16N/R4W, proceeding generally southwesterly onto the Baker map, continuing southwesterly, crossing Sturgill Creek, T15N/R6W, and Dennett Creek, T14N/R6W, proceeding onto the Brogan map, proceeding southeasterly, crossing Rock Creek, T13N/R6W, proceeding onto the Weiser map, proceeding northeasterly, north of the Mann Creek State Recreation Area, crossing Mann Creek, T13N/R5W, continuing northeasterly onto the McCall map;

(9) Continue following the 1,040-meter contour line in a clockwise rotation on the McCall map, proceeding northeasterly, crossing Pine Creek, T15N/R4W, and Hornet Creek, T8S/R2W, passing west of the Payette National Forest, proceeding southerly, passing east of Mesa, onto the Weiser map, proceeding southerly, crossing Crane Creek, T12N/R1W, turning westerly, rounding north of the Paddock Valley Reservoir, crossing Willow Creek, T9N/R1W, turning southerly onto the Boise map, looping southerly and northerly north of the Black Canyon Reservoir and moving back onto the Weiser map;

(10) Continue following the 1,040-meter contour line in a clockwise rotation on the Weiser map, proceeding northerly, crossing Squaw Creek, T12N/R1E, and then southerly, crossing Cottonweed Creek, T11N/R1E, and then southerly again onto the Boise map, rounding south of South Mountain, back onto the Weiser map, proceeding northeasterly north of the Payette River, crossing the North Fork Payette River, T10N/R3E, then proceeding southwesterly south of the Payette River, onto the Boise map, proceeding generally southerly, crossing Cartwright Creek, T6N/R2E, and proceeding westerly and southeasterly towards Lucky Peak Lake, and then turning northward onto the Idaho City map;

(11) Continue following the 1,040-meter contour line in a clockwise rotation on the Idaho City map, proceeding northerly, crossing Grimes and Mores Creek, T5N/R4E, and then proceeding southerly to Lucky Peak Lake, turning northeasterly north of the Lucky Peak Lake, Arrowrock Reservoir, and Middle Fork Boise River to T4N/R7E, crossing the Middle Fork Boise River and proceeding southwesterly south of the Middle Fork Boise River, to the South Fork Boise River, crossing the South Fork Boise River, T2N/R6E, proceeding onto the Boise map proceeding southwesterly south of Lucky Peak Lake onto the Murphy map;

(12) Continue following the 1,040-meter contour line in a clockwise rotation southeasterly on the Murphy map to the Mountain Home map, proceeding southeasterly, crossing Canyon Creek, passing north of Mountain Home Reservoir, crossing King Hill Creek, onto the Fairfield map, proceeding easterly, crossing Clover Creek, T4S/R13E, proceeding southerly onto the Twin Falls map;

(13) Continue following the 1,040-meter contour line in a clockwise rotation on the Twin Falls map, proceeding southeasterly to the Snake River, T9S/R14E, following north of the Snake River and crossing at T10S/R18E, northeast of Twin Falls, proceeding westerly south of the Snake River to the Salmon River, following east of the Salmon River and crossing at T10S/R13E, proceeding northerly west of the Salmon River and the Hagerman Wildlife Management Area, proceeding west onto the Glenns Ferry map;

(14) Continue following the 1,040-meter contour line in a clockwise rotation on the Glenns Ferry map, proceeding generally west to Rosevear Gulch, turning south between Rosevear Gulch and Pilgrim Gulch, near Deadman Creek, heading northwesterly, continuing through the Bruneau Desert, crossing Hole Creek in Pot Canyon and proceeding to Bruneau Canyon, proceeding southeasterly east of Bruneau Canyon, crossing Bruneau Canyon, T10S/R7E, proceeding west of Bruneau Canyon then west onto the Triangle map;

(15) Continue following the 1,040-meter contour line in a clockwise rotation on the Triangle map, heading northwesterly, crossing Shoofly Creek and Alder Creek, T6S/R1W, onto the Murphy map, continuing northwesterly to Sinker Creek, crossing Sinker Creek, T4S/R2W, continuing northwesterly to Jump Creek, crossing Jump Creek, T1N/R5W, proceeding northwesterly onto the Boise map, crossing its southwestern corner, T2N/R5W, onto the Mahogany Mountain map;

(16) Continue following the 1,040-meter contour line in a clockwise rotation onto the Mahogany Mountain map, proceeding westerly onto the Vale map, generally northwesterly then southwesterly onto the Mahogany Mountain map, proceeding southwest, west, and generally north onto the Vale map, passing through Succor Creek State Recreational Area, returning to the Mahogany Mountain map, and, passing east of McIntyre Ridge, crossing Succor Creek, T1N/R46E, proceeding northerly back onto the Vale map;

(17) Continue following the 1,040-meter contour line in a clockwise rotation on the Vale map, proceeding northerly east of Owyhee Ridge and Long Draw to north of Lake Owyhee, southwesterly and southerly south of Lake Owyhee onto the Mahogany Mountain map, southwesterly south of Lake Owyhee, the Owyhee River, and Owyhee Canyon, crossing Owyhee Canyon at T29S/R41E, proceeding northerly west of Owyhee Canyon, northeasterly west of Owyhee River and Owyhee Reservoir, and northerly onto the Vale map;

(18) Continue following the 1,040-meter contour line in a clockwise rotation on the Vale map, proceeding generally northerly to T20S/R42E, southwesterly east of Cottonwood Creek, crossing Cottonwood Creek, T22S/R40E, proceeding north to the Malheur River, following the Malheur River westerly to the intersection of the 1,040-meter contour line and the 118 degree west longitude line in Malheur County, Oregon, T21S/R38E, on the western border of the Vale map;

(19) Proceed straight north along the 118 degree west longitude line to its intersection with the 1,040-meter contour line, north of the Malheur River, T20S/R38E, proceeding easterly north of the Malheur River to Hog Creek, crossing Hog Creek, T20S/R40E, and proceeding northerly on the Vale map;

(20) Continue following the 1,040-meter contour line in a clockwise rotation, crossing onto the Brogan map, proceeding easterly, northerly, and westerly to and around Malheur Reservoir, T14S/R41E, proceeding easterly to Cottonwood Gulch then northerly to Dixie Creek, crossing Dixie Creek, T12S/RR41E, proceeding easterly and northerly onto the Baker map;

(21) Continue following the 1,040-meter contour line in a clockwise rotation on the Baker map, proceeding westerly south of the Burnt River, crossing the Burnt River, T10S/R41E, proceeding easterly north of the Burnt River to Gravel Pits, then northerly, returning to the beginning point.

Dated: January 18, 2007.
John J. Manfreda,
Administrator.
Approved: February 5, 2007.
Timothy E. Skud,
Deputy Assistant Secretary (Tax, Trade, and Tariff Policy).

[FR Doc. E7-4230 Filed 3-8-07; 8:45 am]

BILLING CODE 4810-31-P